DEPARTMENT OF COMMERCE

Foreign-Trade Zones Board

[B-07-2018]

Foreign-Trade Zone (FTZ) 49—Newark, New Jersey; Notification of Proposed Production Activity; Movado Group, Inc. (Timepieces and Jewelry); Moonachie, New Jersey

Movado Group, Inc. (Movado) submitted a notification of proposed production activity to the FTZ Board for its facility in Moonachie, New Jersey. The notification conforming to the requirements of the regulations of the FTZ Board (15 CFR 400.22) was received on January 31, 2018.

Movado's facility is located within Subzone 49J. The facility is used for the assembling of parts and components into finished watches and clocks, as well as kitting activities involving watches and jewelry. Pursuant to 15 CFR 400.14(b), FTZ activity would be limited to the specific foreign-status materials and components and specific finished products described in the submitted notification (as described below) and subsequently authorized by the FTZ Board.

Production under FTZ procedures could exempt Movado from customs duty payments on the foreign-status components used in export production. On its domestic sales, for the foreign-status components noted below, Movado would be able to choose the duty rates during customs entry procedures that apply to wrist watches, travel clocks, and electrically operated alarm clocks (duty rate ranges from duty-free to 27.8%). Movado would be able to avoid duty on foreign-status components which become scrap/waste. Customs duties also could possibly be deferred or reduced on foreign-status production equipment.

The components and materials sourced from abroad include: Rings for fingers of precious metal; earrings of precious metal; necklaces of precious metal; wrist bracelets of precious metal; jewelry of precious or semiprecious stones (natural, synthetic or reconstructed); imitation jewelry: Cuff links and studs; rings for fingers of base metal; earrings of base metal; necklaces of base metal; wrist bracelets of base metal; coins (other than gold), not being legal tender; key chains; watch movements, electrically operated and with mechanical displays only or devices for incorporating mechanical displays (complete/assembled); watch movements, electrically operated and with opto-electronic display only (complete/assembled); watch movements, electrically operated and with other than mechanical or opto-electronic display only (complete/assembled); watch movements, with automatic winding (complete/assembled); watch movements, other than electrically operated or with automatic winding (complete/assembled); watch movements (complete/unassembled or partly assembled); watch movements (incomplete/assembled); watch movements (rough movements); clock movements; watch cases, precious metal or of metal clad with precious metal; watch cases, of base metal, whether or not gold- or silver-plated; watch cases, other than precious metal or base metal; watch case parts: Crown tubes/gaskets; crystals; crystal gaskets; case back crystals; case backs; case back gaskets; case back screws; case tubes; bezels; gaskets; bezel screws; ring flanges; movement holders; watch straps/bands/bracelets, precious metal or of metal clads with precious metal; watch straps/bands/bracelets, base metal, whether or not gold- or silver-plated; watch straps/bands/bracelets, other than precious metal or base metal; springs, including hairsprings; dials; plates and bridges; other watches or clock parts: Bracelet decors; hands; crystals; pushers; crowns; bezels; case back screws; bezel screws; bracelet screws; case back gaskets; bezel gaskets; crystal gaskets; case tubes; movement holders; ring flanges; movement screws; deployment buckles; tongue buckles; clasps; jewelers' clasps; logo covers for bracelets; sizing link screws; pins; tubes; set case to bracelet attachments; and, silver oxide and lithium batteries (duty rate ranges from duty-free to 13.5%). The request indicates that lithium-ion batteries will be admitted to the zone in privileged foreign status (19 CFR 146.41), thereby precluding inverted tariff benefits on such items.

Public comment is invited from interested parties. Submissions shall be addressed to the Board's Executive Secretary at the address below. The closing period for their receipt is March 26, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: February 6, 2018.
Andrew McGilvray,
Executive Secretary.

[FR Doc. 2018-02789 Filed 2-9-18; 8:45 am]

BILLING CODE 3510-DS-P